DEPARTMENT OF THE INTERIOR

Bureau of Indian Affairs

[167 A2100DD/AADD001000/A0A501010.999900]

Advisory Board for Exceptional Children

AGENCY: Bureau of Indian Affairs, Interior.

ACTION: Notice of meeting.

SUMMARY: The Bureau of Indian Education (BIE) is announcing that the Advisory Board for Exceptional Children (Advisory Board) will hold its next meeting in Albuquerque, New Mexico. The purpose of the meeting is to meet the mandates of the Individuals with Disabilities Education Act of 2004 (IDEA) for Indian children with disabilities.

DATES: The Advisory Board will meet on Thursday, March 17, 2016, from 8:30 a.m. to 4:30 p.m. and Friday, March 18, 2016, from 8:30 a.m. to 4:30 p.m. Local Time.

ADDRESSES: The meetings will be held at the Manual Lujan, Jr. Building, Room 234, 1011 Indian School Road NW., Albuquerque, NM 87104.

FOR FURTHER INFORMATION CONTACT: Ms. Sue Bement, Designated Federal Officer, Bureau of Indian Education, Albuquerque Service Center, Division of Performance and Accountability, 1011 Indian School Road NW., Suite 332, Albuquerque, NM 87104; telephone number (505) 563-5274.

SUPPLEMENTARY INFORMATION: In accordance with the Federal Advisory Committee Act, BIE is announcing that the Advisory Board will hold its next meeting in Albuquerque, New Mexico. The Advisory Board was established under the Individuals with Disabilities Education Act of 2004 (20 U.S.C. 1400 et seq.) to advise the Secretary of the Interior, through the Assistant Secretary-Indian Affairs, on the needs of Indian children with disabilities. The meetings are open to the public.

The following items will be on the agenda:

• Introduction of Advisory Board members

• Report from Gloria Yepa, Supervisory Education Specialist, BIE, Division of Performance and Accountability

• Report from BIE Director's Office

• Board work on Priority's for 2016

• Public Comment (via conference call, March 18, 2016 meeting only*).

• BIE Advisory Board-Advice and Recommendations

* During the March 18, 2016, meeting, time has been set aside for public comment via conference call from 1:30—2:00 p.m. Eastern Standard Time. The call-in information is: Conference Number 1-888-417-0376, Passcode 1509140.

Dated: January 11, 2016.
Lawrence S. Roberts,
Principal Deputy Assistant Secretary—Indian Affairs.

[FR Doc. 2016-02249 Filed 2-4-16; 8:45 am]

BILLING CODE 4337-15-P